DEPARTMENT OF COMMERCE

Foreign-Trade Zones Board

[B-52-2015]

Foreign-Trade Zone (FTZ) 37—Orange County, NY; Notification of Proposed Production Activity; Takasago International Corporation (USA); (Fragrance Compounds); Harriman, NY

Takasago International Corporation (USA) (Takasago), an operator of FTZ 37, submitted a notification of proposed production activity to the FTZ Board for its facility located in Harriman, New York. The notification conforming to the requirements of the regulations of the FTZ Board (15 CFR 400.22) was received on August 7, 2015.

Takasago already has authority to produce fragrance compounds within Site 10 of FTZ 37. The current request would add foreign-status materials to the scope of authority. Pursuant to 15 CFR 400.14(b), additional FTZ authority would be limited to the specific foreign-status materials and components and specific finished products described in the submitted notification (as described below) and subsequently authorized by the FTZ Board.

Production under FTZ procedures could exempt Takasago from customs duty payments on the foreign status materials used in export production. On its domestic sales, Takasago would be able to choose the duty rate during customs entry procedures that applies to fragrance compounds (duty-free) for the foreign status materials noted below and in the existing scope of authority. Customs duties also could possibly be deferred or reduced on foreign status production equipment.

The components and materials sourced from abroad include: Beeswax abs, myroxide, octacetal, syvertal, hydroxyl ambran, safralene, cresyl iso buty, geranyl butyrate, diisobutyl adipate, allyl amyl glyocolate, jasmodione, auirantiol pure, jasmolactone, octalactone delta, g-undecalactone, methyl dioxolan, okumal, grisalva, iso butyl quinolone, peppermint oil, styrax resoid and crystarome strawberry (duty rate ranges from free to 6.5%).

Public comment is invited from interested parties. Submissions shall be addressed to the FTZ Board's Executive Secretary at the address below. The closing period for their receipt is September 28, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: August 11, 2015.
Andrew McGilvray,
Executive Secretary.

[FR Doc. 2015-20269 Filed 8-14-15; 8:45 am]

BILLING CODE 3510-DS-P